DEPARTMENT OF LABOR

Office of Workers' Compensation Programs

20 CFR Part 702

RIN 1240-AA13

Longshore and Harbor Workers' Compensation Act: Electronic Filing, Settlement, and Civil Money Penalty Procedures

AGENCY: Office of Workers' Compensation Programs, Labor.

ACTION: Withdrawal of notice of proposed rulemaking.

SUMMARY: On December 14, 2020, the Office of Workers' Compensation Programs (OWCP) published a notice of proposed rulemaking in the Federal Register proposing to revise regulations governing electronic filing and settlements, and establishing new procedures for assessing and adjudicating penalties under the Longshore and Harbor Workers' Compensation Act (LHWCA). Consistent with the Presidential directive as expressed in the memorandum of January 20, 2021, from the Assistant to the President and Chief of Staff, entitled “Regulatory Freeze Pending Review,” OWCP is withdrawing the notice of proposed rulemaking.

DATES: As of February 9, 2021, the notice of proposed rulemaking published at 85 FR 80698 on December 14, 2020, is withdrawn.

FOR FURTHER INFORMATION CONTACT: Antonio Rios, Director, Division of Federal Employees', Longshore and Harbor Workers' Compensation, Office of Workers' Compensation Programs, (202)-693-0040, rios.antonio@dol.gov. TTY/TDD callers may dial toll free1-877-889-5627 for further information.

SUPPLEMENTARY INFORMATION: On December 14, 2020, OWCP published a notice of proposed rulemaking entitled Longshore and Harbor Workers' Compensation Act: Electronic Filing, Settlement, and Civil Money Penalty Procedures, 85 FR 80698. The proposed rule would revise the LHWCA regulations governing electronic filing and settlements, and establish new procedures for assessing and adjudicating penalties under the LHWCA. The comment period for the rule expires on February 12, 2021. OWCP simultaneously published a companion direct final rule. See 85 FR 80601 (Dec. 14, 2020).

A new administration assumed office on January 20, 2021. On that same date, the Assistant to the President and Chief of Staff issued a memorandum entitled “Regulatory Freeze Pending Review” to the Heads of Executive Departments and Agencies. 86 FR 7424 (Jan. 28, 2021). The purpose of the memorandum was “to ensure that the President's appointees or designees have the opportunity to review any new or pending rules.” Id. The memorandum directs agencies to consider pausing or delaying certain regulatory actions for the purpose of reviewing questions of fact, law, and policy raised therein. OWCP believes that the most efficient way to implement the memorandum in this instance is to withdraw the notice of proposed rulemaking. The proposed rule is at an early stage and the comment period is still running. Thus, the administrative record has not yet been fully developed. Withdrawing the proposed rule will give the new administration adequate time to review the rule and determine the approach it wants to take. Once that review is complete, OWCP plans to issue a new proposed rule and offer the public an opportunity to comment on the topics addressed at that time. OWCP is simultaneously withdrawing the companion direct final rule.

Accordingly, the notice of proposed rulemaking published in the Federal Register on December 14, 2020 (85 FR 80698) is withdrawn as of February 9, 2021.

Christopher J. Godfrey,
Director, Office of Workers' Compensation Programs.

[FR Doc. 2021-02722 Filed 2-8-21; 8:45 am]

BILLING CODE 4510-CR-P